DEPARTMENT OF HOMELAND SECURITY

Coast Guard

33 CFR Parts 117 and 165

[USCG-2003-15330]

Safety Zones, Security Zones and Drawbridge Operation Regulations

AGENCY: Coast Guard, DHS.

ACTION: Notice of temporary rules issued.

SUMMARY: This document provides required notice of substantive rules issued by the Coast Guard and temporarily effective between January 1, 2003 and March 31, 2003, that were not published in the Federal Register. This quarterly notice lists temporary drawbridge operation regulations, security zones, and safety zones of limited duration and for which timely publication in the Federal Register was not possible.

DATES: This notice lists temporary Coast Guard rules that became effective and were terminated between January 1, 2003 and March 31, 2003.

ADDRESSES: You may submit comments identified by Coast Guard docket number USCG-2003-15330 to the Docket Management Facility at the U.S. Department of Transportation. To avoid duplication, please use only one of the following methods:

(1) Web site: http://dms.dot.gov.

(2) Mail: Docket Management Facility, U.S. Department of Transportation, 400 Seventh Street, SW., Washington, DC 20590-0001.

(3) Fax: 202-493-2251.

(4) Delivery: Room PL-401 on the Plaza level of the Nassif Building, 400 Seventh Street, SW., Washington, DC, between 9 a.m. and 5 p.m., Monday through Friday, except Federal holidays. The telephone number is 202-366-9329.

(5) Federal eRulemaking Portal: http://www.regulations.gov.

FOR FURTHER INFORMATION CONTACT: If you have questions on this notice, contact LT Sean Fahey, Office of Regulations and Administrative Law, telephone (202) 267-2830. If you have questions on viewing, or on submitting material to the docket, contact Dorothy Beard, Chief, Dockets, Department of Transportation at (202) 366-5149.

SUPPLEMENTARY INFORMATION: Coast Guard District Commanders and Captains of the Port (COTP) must be immediately responsive to the safety and security needs of the waters within their jurisdiction; therefore, District Commanders and COTPs have been delegated the authority to issue certain local regulations. Safety zones may be established for safety or environmental purposes. A safety zone may be stationary and described by fixed limits or it may be described as a zone around a vessel in motion. Security zones limit access to prevent injury or damage to vessels, ports, or waterfront facilities. Drawbridge operation regulations authorize changes to drawbridge schedules to accommodate bridge repairs, seasonal vessel traffic, and local public events. Timely publication of these rules in the Federal Register is often precluded when a rule responds to an emergency, or when an event occurs without sufficient advance notice. The affected public is, however, informed of these rules through Local Notices to Mariners, press releases, and other means. Moreover, actual notification is provided by Coast Guard patrol vessels enforcing the restrictions imposed by the rule. Because Federal Register publication was not possible before the beginning of the effective period, mariners were personally notified of the contents of these drawbridge operation regulations, security zones, or safety zones by Coast Guard officials on-scene prior to any enforcement action. However, the Coast Guard, by law, must publish in the Federal Register notice of substantive rules adopted. To meet this obligation without imposing undue expense on the public, the Coast Guard periodically publishes a list of these temporary special local regulations, drawbridge operation regulations, security zones, and safety zones. Permanent rules are not included in this list because they are published in their entirety in the Federal Register. Temporary rules may also be published in their entirety if sufficient time is available to do so before they are placed in effect or terminated. The safety zones, drawbridge operation regulations, and security zones listed in this notice have been exempted from review under Executive Order 12866, Regulatory Planning and Review, because of their emergency nature, or limited scope and temporary effectiveness.

The following rules were placed in effect temporarily during the period from January 1, 2003, through March 31, 2003, unless otherwise indicated.

Dated: June 3, 2003.
S.B. Venckus,
Chief, Office of Regulations and Administrative Law.

COTP Quarterly Report—1st Quarter 2003
COTP docket | Location | Type | Effective date
CHARLESTON 03-025 | COOPER RIVER, SOUTH CAROLINA | SECURITY ZONE | 02/14/2003
CORPUS CHRISTIE 03-001 | CORPUS CHRISTIE SHIP CHANNEL, CORPUS CHRISTIE | SAFETY ZONE | 02/14/2003
HOUSTON-GALVESTON 03-001 | HOUSTON SHIP CHANNEL, HOUSTON, TX | SAFETY ZONE | 01/12/2003
HOUSTON-GALVESTON 03-002 | HOUSTON SHIP CHANNEL, HOUSTON, TX | SAFETY ZONE | 01/13/2003
JACKSONVILLE 03-019 | MATANZAS RIVER, ST. AUGUSTINE, FL | SAFETY ZONE | 02/21/2003
JACKSONVILLE 03-027 | JACKSONVILLE, FL | SECURITY ZONE | 02/13/2003
JACKSONVILLE 03-029 | ST. JOHNS RIVER, JACKSONVILLE, FL | SAFETY ZONE | 02/14/2003
JACKSONVILLE 03-030 | ST. JOHNS RIVER, JACKSONVILLE, FL | SAFETY ZONE | 02/17/2003
JACKSONVILLE 03-034 | COCOA VILLAGE MARDI GRAS, COCOA, FL | SAFETY ZONE | 02/22/2003
JACKSONVILLE 03-040 | ST. JOHNS RIVER, JACKSONVILLE, FL | SAFETY ZONE | 02/23/2003
MIAMI 03-009 | BISCAYNE BAY, MIAMI BEACH, FL | SAFETY ZONE | 02/03/2003
MIAMI 03-010 | BISCAYNE BAY, MIAMI BEACH, FL | SAFETY ZONE | 02/05/2003
MIAMI 03-013 | LAKE OKEECHOBEE, FL | SAFETY ZONE | 02/08/2003
MIAMI 03-020 | BUENA VISTA, FL | SAFETY ZONE | 02/01/2003
MIAMI 03-023 | PORT OF MIAMI, MIAMI, FL | SECURITY ZONE | 01/30/2003
MIAMI 03-028 | MIAMI BEACH WINTER SPRINTS, MIAMI BEACH, FL | SAFETY ZONE | 03/02/2003
MIAMI 03-033 | WEST PALM BEACH, FL | SAFETY ZONE | 02/22/2003
MOBILE 03-001 | PORT OF MOBILE, MOBILE, AL | SECURITY ZONE | 01/07/2003
MOBILE 03-003 | PORT OF MOBILE, MOBILE, AL | SECURITY ZONE | 01/17/2003
MOBILE 03-004 | NICEVILLE, FLORIDA | SAFETY ZONE | 02/04/2003
MOBILE 03-005 | GULFPORT SHIP CHANNEL, GULFPORT, MS | SAFETY ZONE | 02/18/2003
MOBILE 03-006 | PACAUGOULA, MS | SAFETY ZONE | 03/21/2003
MORGAN CITY 03-002 | EUGENE ISLAND SEA BUOY TO M. 199.8 | SECURITY ZONE | 01/20/2003
NEW ORLEANS 03-001 | LWR MISSISSIPPI RIVER, M. 94 TO 96 | SAFETY ZONE | 01/01/2003
NEW ORLEANS 03-002 | LAKE PONTCHARTRAIN, KENNER, LA | SAFETY ZONE | 01/01/2003
NEW ORLEANS 03-003 | LAKE PONTCHARTRAIN, METAIRIE, LA | SAFETY ZONE | 01/01/2003
NEW ORLEANS 03-004 | INTRACOASTAL WATERWAY, M. 20 TO 15 | SAFETY ZONE | 01/31/2003
NEW ORLEANS 03-005 | LWR MISSISSIPPI RIVER, M. 93 TO 96 | SAFETY ZONE | 03/03/2003
NEW ORLEANS 03-006 | LOWER MISSISSIPPI, RIVER | SECURITY ZONE | 03/20/2003
PADUCAH 03-001 | UPPER MISSISSIPPI RIVER, M. 51.5 TO 52.5 | SAFETY ZONE | 01/08/2003
PADUCAH 03-002 | UPPER MISSISSIPPI RIVER, M. 51.5 TO 52.5 | SAFETY ZONE | 01/28/2003
PADUCAH 03-005 | UPPER MISSISSIPPI RIVER, M. 51.5 TO 52.5 | SAFETY ZONE | 03/19/2003
PADUCAH 03-006 | UPPER MISSISSIPPI RIVER, M. 51.5 TO 52.5 | SAFETY ZONE | 03/28/2003
PHILADELPHIA 03-001 | DELAWARE BAY AND RIVER | SECURITY ZONE | 01/03/2003
PHILADELPHIA 03-002 | DELAWARE RIVER, PHILADELPHIA, PA | SECURITY ZONE | 01/03/2003
PHILADELPHIA 03-006 | SUSQUEHANNA RIVER, YORK, COUNTY, PA | SECURITY ZONE | 02/04/2003
PHILADELPHIA 03-008 | TACONY PALMYRA BRIDGE, DELAWARE RIVER | SAFETY ZONE | 02/10/2003
PHILADELPHIA 03-009 | ICE CONDITIONS, CHESAPEAKE & DELAWARE CANAL | SAFETY ZONE | 01/31/2003
PHILADELPHIA 03-010 | CHESAPEAKE & DELAWARE CANAL | SAFETY ZONE | 02/04/2003
PHILADELPHIA 03-011 | DELAWARE RIVER, SALEM RIVER | SAFETY ZONE | 02/10/2003
PHILADELPHIA 03-012 | CAPE MAY HARBOR/INLET | SAFETY ZONE | 02/10/2003
PHILADELPHIA 03-013 | DELAWARE RIVER, PHILADELPHIA, PA | SECURITY ZONE | 03/31/2003
PITTSBURGH 02-019 | OHIO RIVER, M. 119 TO 119.8 | SECURITY ZONE | 03/15/2003
PITTSBURGH 03-001 | ALLEGHENY RIVER, M. 0.3 TO 0.7 | SAFETY ZONE | 01/21/2003
PORT ARTHUR 03-001 | SABINE-NECHES CANAL, PORT ARTHUR, TX | SAFETY ZONE | 03/02/2003
SAN DIEGO 03-001 | SAN DIEGO BAY, CA | SAFETY ZONE | 01/25/2003
SAN FRANCISCO BAY 03-001 | OAKLAND ESTUARY, CALIFORNIA | SAFETY ZONE | 01/25/2003
SAN JUAN 03-026 | PONCE, PUERTO RICO | SECURITY ZONE | 02/11/2003
SAN JUAN 03-052 | SAN JUAN, PUERTO RICO | SECURITY ZONE | 03/26/2003
SAVANNAH 03-021 | SAVANNAH RIVER, SAVANNAH, GA | SECURITY ZONE | 01/24/2003
SAVANNAH 03-042 | SAVANNAH RIVER, SAVANNAH, GA | SAFETY ZONE | 02/27/2003
SAVANNAH 03-050 | SAVANNAH RIVER, SAVANNAH, GA | SECURITY ZONE | 03/25/2003
TAMPA 03-043 | PORT OF TAMPA, TAMPA FLORIDA | SECURITY ZONE | 03/09/2003
05-03-002 | PORT OF HAMPTON ROADS, VIRGINIA | SECURITY ZONE | 01/13/2003
05-03-004 | BOGUE SOUND, MOREHEAD CITY, NC | SECURITY ZONE | 01/19/2003
05-03-005 | CAPE FEAR RIVER, WILMINGTON, NC | SECURITY ZONE | 01/20/2003
05-03-006 | CAPE FEAR RIVER, BRUNSWICK COUNTY, NC | SECURITY ZONE | 01/21/2003
05-03-009 | ELIZABETH RIVER, VA | SECURITY ZONE | 01/29/2003
05-03-011 | HAMPTON ROADS, ELIZABETH RIVER, VA | SECURITY ZONE | 02/02/2003
05-03-014 | HAMPTON ROADS, JAMES RIVER, VA | SAFETY ZONE | 02/01/2003
05-03-015 | CHESAPEAKE AND DELAWARE CANAL, MARYLAND | SAFETY ZONE | 01/31/2003
05-03-020 | CHESAPEAKE AND DELAWARE CANAL, MARYLAND | SAFETY ZONE | 02/04/2003
05-03-021 | ELIZABETH RIVER, PORT OF HAMPTONS ROADS, VA | SECURITY ZONE | 02/06/2003
05-03-024 | HAMPTON ROADS, ELIZABETH RIVER, VA | SECURITY ZONE | 02/15/2003
05-03-025 | PORT OF HAMPTON ROADS, VIRGINIA | SECURITY ZONE | 02/15/2003
05-03-026 | HAMPTON ROADS, JAMES RIVER, VA | SECURITY ZONE | 02/17/2003
05-03-027 | HAMPTON ROADS, ELIZABETH RIVER, VA | SECURITY ZONE | 02/21/2003
05-03-028 | ELIZABETH RIVER, PORT OF HAMPTON ROADS, VA | SECURITY ZONE | 02/23/2003
05-03-033 | HAMPTON ROADS, ELIZABETH RIVER, VA | SECURITY ZONE | 03/12/2003
07-02-151 | MIAMI RIVER, MIAMI-DADE COUNTY | DRAWBRIDGE OPERATION | 02/02/2003
09-03-200 | CHICAGO RIVER, CHICAGO, IL | SECURITY ZONE | 01/07/2003
09-03-201 | PORT CHICAGO ZONE, LAKE MICHIGAN | SECURITY ZONE | 01/07/2003
13-03-006 | PUGET SOUND, WA | SECURITY ZONE | 02/23/2003

[FR Doc. 03-14429 Filed 6-6-03; 8:45 am]

BILLING CODE 4910-15-M